DEPARTMENT OF COMMERCE

National Oceanic and Atmospheric Administration

50 CFR Part 622

[Docket No. 110621347-1385-02]

RIN 0648-BB19

Fisheries of the Caribbean, Gulf of Mexico, and South Atlantic; Snapper-Grouper Fishery Off the Southern Atlantic States; Control Date for Commercial Wreckfish Sector

AGENCY: Commerce, National Oceanic and Atmospheric Administration (NOAA), National Marine Fisheries Service (NMFS).

ACTION: Advanced Notice of Proposed Rulemaking; Consideration of a Control Date.

SUMMARY: NMFS announces that it is establishing a new control date of March 11, 2011, to control future access to the commercial wreckfish sector of the snapper-grouper fishery operating in the exclusive economic zone (EEZ) of the South Atlantic. If changes to the management regime are developed and implemented under the Magnuson-Stevens Fishery Conservation and Management Act (Magnuson-Stevens Act), a control date could be used to limit the number of participants in this commercial sector. This announcement is intended, in part, to promote awareness of the potential eligibility criteria for future access so as to discourage speculative entry into this sector while the South Atlantic Fishery Management Council (Council) and NMFS consider whether and how access to the commercial wreckfish sector should be controlled.

DATES: Written comments must be received on or before 5 p.m., local time, September 2, 2011.

ADDRESSES: You may submit comments, identified by NOAA-NMFS-2011-0152, by the following method:

• Electronic Submissions: Submit all electronic public comments via the Federal eRulemaking Portal http://www.regulations.gov. Follow the instructions for submitting comments.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal http://www.regulations.gov, select “submit a comment,” enter the following docket number into the “Search” box: NOAA-NMFS-2011-0152. To view posted comments during the comment period, enter “NOAA-NMFS-2011-0152” in the keyword search and click on “search.” NMFS will accept anonymous comments (enter N/A in the required fields if you wish to remain anonymous). You may submit attachments to electronic comments in Microsoft Word, Excel, WordPerfect, or Adobe PDF file formats only.

FOR FURTHER INFORMATION CONTACT: Kim Iverson, Public Information Officer, South Atlantic Fishery Management Council; toll free 1-866-SAFMC-10 or 843-571-4366; kim.iverson@safmc.net.

SUPPLEMENTARY INFORMATION: Previously, the Council established a control date of March 28, 1990, for the commercial wreckfish sector of the snapper-grouper fishery. Subsequent to that action, an individual transferable quota program was implemented for wreckfish in 1992. The Council is currently developing Amendments 20A and 20B to the Snapper-Grouper Fishery Management Plan (FMP) regarding wreckfish. Therefore, at its March 2011 meeting, the Council recommended a new control date of March 11, 2011, for the commercial wreckfish sector. The Council manages wreckfish under the FMP for the Snapper-Grouper Fishery of the South Atlantic Region. The new control date would apply to current wreckfish ITQ shareholders as well as persons who are contemplating entering the commercial wreckfish sector in the EEZ of the South Atlantic region. If adopted, a new control date would be established for the commercial wreckfish sector. The Council requested that this control date be published in the Federal Register, in part, to notify fishermen that if they enter this sector after March 11, 2011, they may not be assured of future access if the Council and/or NMFS decide to limit entry or impose other management measures.

Establishment of the new control date would allow the Council to limit the level of participation in the subject sector using the March 11, 2011, date as part of a management strategy. Control dates are intended to discourage speculative entry into a sector of that fishery, as new entrants entering after the control date are forewarned that they are not guaranteed future participation.

Establishment of this new control date does not commit the Council or NMFS to any particular management regime or criteria for entry into the commercial wreckfish sector. Fishermen are not guaranteed future participation in the sector regardless of their level of participation before or after the control date. The Council may recommend a different control date or it may recommend a management regime that does not involve a control date. Other criteria, such as documentation of landings or fishing effort, may be used to determine eligibility for participation in a limited access fishery. The Council and/or NMFS also may choose to take no further action to control entry or access to the subject sector, in which case the control date may be rescinded. Any action by the Council will be taken pursuant to the requirements for fishery management plan and amendment development established under the Magnuson-Stevens Act.

This notification also gives the public notice that interested participants should locate and preserve records that substantiate and verify their participation in the commercial wreckfish sector in the South Atlantic EEZ.

This rule has been determined to be not significant under E.O. 12866.

Authority: 16 U.S.C. 1801 et seq.

Dated: July 28, 2011.
Eric C. Schwaab,
Assistant Administrator for Fisheries, National Marine Fisheries Service.

[FR Doc. 2011-19667 Filed 8-2-11; 8:45 am]

BILLING CODE 3510-22-P